NATIONAL SCIENCE FOUNDATION

Agency Information Collection Activities: Comment Request

AGENCY: National Science Foundation.

ACTION: Notice.

SUMMARY: Under the Paperwork Reduction Act of 1995, Public Law 104-13 (44 U.S.C. 3506(c)(2)(A)), and as part of its continuing effort to reduce paperwork and respondent burden, the National Science Foundation invites the general public and other Federal agencies to take this opportunity to comment on this information collection.

Comments: Comments are invited on (a) whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on those who are to respond, including through the use of appropriate automated, electronic, mechanical, or other technological collection techniques or other forms of information technology. Comments submitted in response to this notice will be summarized and/or included in the request for OMB approval of this information collection; they also will become a matter of public record.

DATES: Written comments should be received by December 14, 2010 to be assured of consideration. Comments received after that date will be considered to the extent practicable.

ADDRESSES: Written comments regarding the information collection and requests for copies of the proposed information collection request should be addressed to Suzanne Plimpton, Reports Clearance Officer, National Science Foundation, 4201 Wilson Blvd., Rm. 295, Arlington, VA 22230, or by e-mail to splimpto@nsf.gov.

FOR ADDITIONAL INFORMATION OR COMMENTS: Contact Suzanne Plimpton, the NSF Reports Clearance Officer, phone (703) 292-7556, or send e-mail to splimpto@nsf.gov. Individuals who use a telecommunications device for the deaf (TDD) may call the Federal Information Relay Service (FIRS) at 1-800-877-8339, which is accessible 24 hours a day, 7 days a week, 365 days a year (including Federal holidays).

SUPPLEMENTARY INFORMATION: Title: Major Research Instrumentation (MRI) Program. Outcomes Survey.

OMB Approval Number: 3145-NEW.

Expiration Date of Approval: Not applicable.

Abstract

The Major Research Instrumentation Program (MRI) catalyzes new knowledge and discoveries by providing the Nation's scientists and engineers with state-of-the-art research instrumentation. The MRI Program enables research-intensive learning environments that promote the development of a diverse workforce and next generation instrumentation, as well as facilitates academic/private sector partnerships. Among the goals of the MRI Program are:

• Supporting the acquisition of major state-of-the-art instrumentation, thereby improving access to, and increased use of, modern research and research training instrumentation by a diverse workforce of scientists, engineers, and graduate and undergraduate students;

• Fostering the development of the next generation of instrumentation, resulting in new instruments that are more widely used, and/or open up new areas of research and research training;

• Enabling academic departments, disciplinary and cross-disciplinary units organizations and multi-organization collaborations to create well-equipped research environments that integrate research with education;

• Supporting the acquisition and development of instrumentation that contributes to, or takes advantage of, existing investments in cyberinfrastructure, while avoiding duplication of services already provisioned by NSF investments; and

• Promoting substantive and meaningful partnerships for instrument development between the academic and private sectors. Such partnerships have the potential to build capacity for instrument development in academic settings and to create new products with wide scientific and commercial impact.

The MRI program is seeking OMB approval to administer a comprehensive survey of all MRI awardees to better understand outcomes from the program.

Expected Respondents

The respondents will be current and former MRI awardees all based at academic and non-profit organizations. Quantitative procedures will be fielded using Web-based modes. Up to 3,600 MRI awardees (respondents) will be contacted to request their participation in the survey. As needed, each MRI awardee will be contacted with reminders to complete the survey no more than twice during the survey's duration under this generic clearance. Technology will be heavily utilized to limit the burden on respondents.

Use of the Information

The purpose of this survey of MRI awardees is to better understand outcomes of NSF MRI-related investments. The data will be used internally to inform NSF as it considers future improvements to the MRI program, and to gain a better understanding regarding the program's impact on associated research and education activities. Findings may be presented externally in technical papers at conferences, published in the proceedings of conferences, or in journals.

Burden on the Public

Number of Respondents: 3600.

Number of Minutes per Response: 30.

Overall Burden Request (in hours): 1800.

Dated: October 12, 2010.
Suzanne Plimpton,
Reports Clearance Officer, National Science Foundation.

[FR Doc. 2010-26020 Filed 10-14-10; 8:45 am]

BILLING CODE 7555-01-P